DEPARTMENT OF DEFENSE

U.S. Marine Corps

Privacy Act of 1974; System of Records

AGENCY: U.S. Marine Corps, DoD.

ACTION: Notice to delete and amend systems of records.

SUMMARY: The U.S. Marine Corps proposes to delete and amend systems of records notices in its inventory of record systems subject to the Privacy Act of 1974 (5 U.S.C. 552a), as amended.

DATES: This action will be effective without further notice on May 8, 2002, unless comments are received which result in a contrary determination.

ADDRESSES: Send comments to the Head, FOIA and Privacy Act Section, Headquarters, U.S. Marine Corps, 2 Navy Annex, Washington, DC 20380-1775.

FOR FURTHER INFORMATION CONTACT: Ms. B. L. Thompson at (703) 614-4008 or DSN 224-4008.

SUPPLEMENTARY INFORMATION: The U.S. Marine Corps record system notices for records systems subject to the Privacy Act of 1974 (5 U.S.C. 552a), as amended, have been published in the Federal Register and are available from the address above.

The specific changes to the records systems being amended are set forth below followed by the notices, as amended, published in their entirety. The proposed amendments are not within the purview of subsection (r) of the Privacy Act of 1974, (5 U.S.C. 552a), as amended, which requires the submission of a new or altered system report.

Dated: April 1, 2002.
L. M. Bynum,
Alternate OSD Federal Register Liaison Officer, Department of Defense.

Deletion

MFD00005

System name:

Retired Pay/Personnel System (RPPS) (February 22, 1993, 58 FR 10630).

Reason:

These records are now under the cognizance of the Defense Finance and Accounting Service (DFAS), and are being maintained under the DFAS system of records notice T7347b, Defense Military Retiree and Annuity Pay System (April 12, 1999, 64 FR 17629).

Amendments

MIL00019

System name:

Equipment and Weapons Receipt or Custody Files (August 17, 1999, 64 FR 44698).

Changes:

* * * * *

Storage:

Delete entry and replace with ‘Paper and automated records.’

* * * * *

Safeguards:

Delete entry and replace with ‘Paper files and computer terminals are located in limited access areas and handled only by authorized personnel who are properly screened and trained to work with automated systems of records.’

* * * * *

MIL00019

System name:

Equipment and Weapons Receipt or Custody Files.

System location:

System is decentralized. Records are maintained at Marine Corps commands, organizations, or activities that issue said equipment or weapons.

Categories of individuals covered by the system:

System contains name, rank, Social Security Number, unit address, and date.

Categories of records in the system:

This file contains name, rank, Social Security Number, itemized list of equipment issued, date issued, and possibly unit and section/Department to which assigned.

Authority for maintenance of the system:

5 U.S.C. 301, Departmental Regulations; 10 U.S.C. 5013, Secretary of the Navy; 10 U.S.C. 5041, Headquarters, Marine Corps.

Purpose(s):

To provide a record of individuals who have government property in their possession for use in the management of that property.

Routine uses of records maintained in the system, including categories of users and the purposes of such uses:

In addition to those disclosures generally permitted under 5 U.S.C. 552a(b) of the Privacy Act, these records or information contained therein may specifically be disclosed outside the DoD as a routine use pursuant to 5 U.S.C. 552a(b)(3) as follows:

The DoD ‘Blanket Routine Uses’ set forth at the beginning of the Marine Corps compilation of systems of records notices apply to this system.

Policies and practices for storing, retrieving, accessing, retaining, and disposing of records in the system:

Storage:

Paper and automated records.

Retrievability:

Records are filed alphabetically by name.

Safeguards:

Paper files and computer terminals are located in limited access areas and handled only by authorized personnel who are properly screened and trained to work with automated systems of records.

Retention and disposal:

These records are destroyed upon the return of the property listed.

System manager(s) and address:

Commanding officer of the activity.

Notification procedure:

Individuals seeking to determine whether information about themselves is contained in this system should address written inquiries to the Commanding officer of the activity.

Provide full name and military status. Proof of identity may be established by military identification card or DD Form 214 and drivers license.

Record access procedures:

Individuals seeking access to information about themselves contained in this system should address written inquiries to the Commanding officer of the activity.

Provide full name and military status. Proof of identity may be established by military identification card or DD Form 214 and drivers license.

Contesting record procedures:

The USMC rules for contesting contents and appealing initial agency determinations are published in Secretary of the Navy Instruction 5211.5; Marine Corps Order P5211.2; 32 CFR part 701; or may be obtained from the system manager.

Record source categories:

Information is entered by visual certification of property, issued and identification presented by individual.

Exemptions claimed for the system:

None.

MMN00006

System name:

Marine Corps Military Personnel Records (OQR/SRB)(October 13, 2000, 65 FR 60914)

Changes:

* * * * *

Storage:

At the end of the sentence delete ‘and on microfiche’ and add ‘, on microfiche, and on electronic storage mediums.’

* * * * *

Safeguards:

Delete entry and replace with ‘Paper files and computer terminals are located in limited access areas and handled only by authorized personnel who are properly screened and trained to work with automated systems of records. Computer terminals are protected by passwords.’

* * * * *

MMN00006

SYSTEM NAME:

Marine Corps Military Personnel Records (OQR/SRB).

SYSTEM LOCATION:

Primary system: Headquarters, U.S. Marine Corps (Code MMSB), 2008 Elliot Road, Quantico, VA 22134-5030.

DECENTRALIZED SEGMENTS:

Commanding officer of the organization to which the Marine officer or enlisted individual is assigned for duty and has responsibility for the Officer Qualification Records/Service Record Books (OQR/SRB).

CATEGORIES OF INDIVIDUALS COVERED BY THE SYSTEM:

All Marine Corps military personnel (enlisted/officer): Reserve, retired and discharged or otherwise separated.

CATEGORIES OF RECORDS IN THE SYSTEM:

The system contains the Official Military Personnel File, SRB and OQR.

AUTHORITY FOR MAINTENANCE OF THE SYSTEM:

5 U.S.C. 30l, Departmental Regulations; 10 U.S.C. 5013, Secretary of the Navy; 10 U.S.C. 5041, Headquarters, Marine Corps; and E.O. 9397 (SSN).

PURPOSE(S):

To provide a record on all Marine Corps military personnel for use in management of resources, screening and selection for promotion, training and educational programs, administration of appeals, grievances, discipline, litigations and adjudication of claims and determination of benefits and entitlements.

ROUTINE USES OF RECORDS MAINTAINED IN THE SYSTEM, INCLUDING CATEGORIES OF USERS AND THE PURPOSES OF SUCH USES:

In addition to those disclosures generally permitted under 5 U.S.C. 552a(b) of the Privacy Act, these records or information contained therein may specifically be disclosed outside the DoD as a routine use pursuant to 5 U.S.C. 552a(b)(3) as follows:

To officials and employees of the Coast Guard and National Guard in the performance of their official duties relating to screening members who have expressed a positive interest in an interservice transfer, enlistment, appointment or acceptance.

To agents of the Secret Service in connection with matters under the jurisdiction of that agency upon presentation of credentials.

To private organizations under government contract to perform random analytical research into specific aspects of military personnel management and administrative procedures.

To officials and employees of the American Red Cross and Navy Relief Society in the performance of their duties. Access will be limited to those portions of the member’s record required to effectively assist the member.

To officials and employees of the Sergeant at Arms of the U.S. House of Representatives in the performance of official duties related to the verification of Marine Corps service of Members of Congress. Access will be limited to those portions of the member's record required to verify service time, active and reserve.

To state, local, and foreign (within Status of Forces agreements) law enforcement agencies or their authorized representatives in connection with litigation, law enforcement, or other matters under the jurisdiction of such agencies.

To officials and employees of the Department of Veterans Affairs, Department of Health and Human Services, and Selective Service Administration in the performance of their official duties related to eligibility, notification, and assistance in obtaining benefits by members and former members of the Marine Corps.

To officials and employees of the Department of Veterans Affairs in the performance of their official duties relating to approved research projects.

To officials and employees of other Departments and Agencies of the Executive Branch of government, upon request, in performance of their official duties related to the management, supervision, and administration of members and former members of the Marine Corps.

To Federal agencies, their contractors and grantees, and to private organizations, such as the National Academy of Sciences, for the purposes of conducting personnel and/or health-related research in the interest of the Federal government and the public. When not considered mandatory, the names and other identifying data will be eliminated from records used for such research studies.

The DoD ‘Blanket Routine Uses’ set forth at the beginning of the Marine Corps compilation of systems of records notices apply to this system.

POLICIES AND PRACTICES FOR STORING, RETRIEVING, ACCESSING, RETAINING, AND DISPOSING OF RECORDS IN THE SYSTEM:

STORAGE:

Records are stored on paper in file folders, magnetic megastorage, on microfiche, and on electronic storage mediums.

RETRIEVABILITY:

The records at Headquarters, U.S. Marine Corps (all active and reserve officer records, all temporary disability retired records, all active and organized reserve and Fleet Marine Corps Reserve enlisted records of personnel joined/transferred to these components subsequent to June 30, 1974, all former Commandants, all living retired officers (who served in General Officer grade, records of all personnel separated/retired four months or less) are retrieved by full name and Social Security Number. Except for OQR's and SRB's of participating members, all other categories of Marine Corps military personnel records are maintained at the National Personnel Records Center, St. Louis, MO. Those retired to St. Louis prior to January 1, 1964 and/or those with military service numbers (MSN) below 1800000 are retrieved by MSN and full name. All other Marine Corps records retired to St. Louis, MO are accessed by MSN and/or Social Security Number and are retrieved by an assigned registry number.

SAFEGUARDS:

Paper files and computer terminals are located in limited access areas and handled only by authorized personnel who are properly screened and trained to work with automated systems of records. Computer terminals are protected by passwords.

RETENTION AND DISPOSAL:

Records are permanent. Records maintained at Headquarters, U.S. Marine Corps are transferred to the National Personnel Records Center, 9700 Page Avenue, St. Louis, MO 63132-5100, one year after separation, placement on the Permanent Disability Retired List, retirement, retirement from Fleet Marine Corps Reserve, death of an officer who served in General Officer grade and former Marines no longer considered of newsworthy status.

SYSTEM MANAGER(S) AND ADDRESS:

Commandant of the Marine Corps (Code MMSB), Headquarters, U.S. Marine Corps, 2008 Elliot Road, Quantico, VA 22134-5030.

NOTIFICATION PROCEDURE:

Individuals seeking to determine whether this system of records contains information about themselves should address written inquiries to the Commandant of the Marine Corps (Code MMSB), Headquarters, U.S. Marine Corps, 2008 Elliot Road, Quantico, VA 22134-5030 (for active duty members); or to the Director, National Personnel Records Center, 9700 Page Avenue, St. Louis, MO 63132-5100 (for separated members).

Individuals seeking to determine information about their OQR/SRB records maintained by their respective commanding officer should address written inquiries to the command concerned. U.S. Marine Corps official mailing addresses are incorporated into Department of the Navy's mailing addresses, published as an appendix to the Navy's compilation of record system notices. Written requests should contain the full name, Social Security Number, and signature of the requester.

RECORD ACCESS PROCEDURES:

Individuals seeking access to records about themselves contained in this system of records should address written requests to the Commandant of the Marine Corps (Code MMSB), Headquarters, U.S. Marine Corps, 2008 Elliot Road, Quantico, VA 22134-5030 (for active duty personnel); to the respective commanding officer of the command concerned for OQR/SRB; or to the Director, National Personnel Records Center, 9700 Page Avenue, St. Louis, MO 63132-5100 (for separated members).

Written requests should include the full name, Social Security Number, and signature of the requester.

The individual may visit any of the above activities for review of records. Proof of identification may consist of an individual's active, reserve or retired identification card, Armed Forces Report of Transfer or Discharge (DD Form 214), discharge certificate, driver's license, or other data sufficient to insure that the individual is the subject of the record.

CONTESTING RECORD PROCEDURES:

The U.S. Marine Corps rules for contesting contents and appealing initial agency determinations are published in Secretary of the Navy Instruction 5211.5; Marine Corps Order P5211.2; 32 CFR part 701; or may be obtained from the system manager.

RECORD SOURCE CATEGORIES:

Staff agencies and subdivisions of Headquarters, U.S. Marine Corps; Marine Corps commands and organizations; other agencies of federal, state, and local government; medical reports; correspondence from financial and other commercial enterprises; correspondence and records of educational institutions; correspondence of private citizens addressed directly to the Marine Corps or via the U.S. Congress and other agencies; investigations to determine suitability for enlistment, security clearances, and special assignments; investigations related to disciplinary proceedings; and the individual of the record.

EXEMPTIONS CLAIMED FOR THE SYSTEM:

None.

[FR Doc. 02-8239 Filed 4-5-02; 8:45 am]

BILLING CODE 5001-08-P